DEPARTMENT OF TRANSPORTATION

Federal Aviation Administration

RTCA Special Committee 147: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held April 27, 2006, starting at 9 a.m.

ADDRESSES: The meeting will be held at Embassy Suites Hotel, 2577 W. Greenway Rd., Phoenix, AZ 85023.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 147 meeting. The agenda will include:

• April 27:

• Opening Session (Welcome and Introductory Remarks, Review/Approve meeting agenda for 62nd meeting, Review/Approve Summary of Previous Meeting, Review of Open Action Items).

• FAA TCAS II Program Office activities and charter.

• Plenary and working group leadership changes.

• SC-147 Activity Reports.

• Surveillance Working Group: Hybrid Surveillance MOPS.

• Operations Working Group: “Adjust Vertical Speed, Adjust” RAs.

• Requirements Working Group (RWG).

• Closing Session (Other Business, Future Actions/Activities, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 27, 2006.
Francisco Estrada C.,
RTCA Advisory Committee.

[FR Doc. 06-3138 Filed 3-30-06; 8:45 am]

BILLING CODE 4910-13-M